DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 12, 2011.

ADDRESSES: Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on June 20, 2011.
Donald Burger,
Chief, General Approvals and Permits.

Modification Special Permits
Application Docket No. | Applicant No. | Regulation(s) affected | Nature of special permit thereof
10704-M | Spray Products Corporation Plymouth Meeting, PA | 49 CFR 173.302(a); Part 172, Subpart C, E and F; Part 172; Part 174; Part 177 | To modify the special permit to authorize additional end uses of the product.
11281-M | E.I. du Pont de Nemours & Company Wilmington,DE | 49 CFR 172.101, Column 7, Special Provisions B14, T38 | To modify the special permit to authorize the use of an additional UN portable tank specification.
12247-M | Weldship Corporation Bethlehem, PA | 49 CFR 172.301, 173.302a(b)(2), (b)(3) and (b)(4); 180.205(c) and (g) and 180.209(a) | To modify the special permit to authorize ultrasonic testing of DOT-SP 9001, 9370, 9421, 9706, 9791, 9909, 10047, 10869, and 11692 cylinders.
14574-M | KMG Electronic Chemicals Houston, TX | 49 CFR 180.407(c), (e) and (f) | To modify the special permit to authorize the addition of additional Class 8 hazardous materials and to add 16 new cargo tanks.
15092-M | Tatonduk Outfitters Limited dba Everts Air Alaska Fairbanks, AK | 49 CFR § 173.302(f)(3)(4), and (5), § 173.304 (f)(3), (4), (5), and § 172.301(c) | To modify the special permit to bring it in line with all the other Alaska air carrier special permits.
15132-M | National Aeronautics and Space Administration (NASA) Washington, DC | 49 CFR 173.301 and 178.53 | To modify the special permit to authorize the transportation in commerce of certain Division 2.1 and 2.2 gases in alterative packaging when transported by motor vehicle.
15250-M | DOE/National Nuclear Security Administration Albuquerque, NM | 49 CFR 173.56(b)(3)(i) | To reissue the special permit originally issued on an emergency basis for the transportation in commerce of certain explosives that are tested to a revision of the Department of Defense Ammunition and Explosive Hazard Classification Procedures TB 700-2 that has not been incorporated by reference.

[FR Doc. 2011-15786 Filed 6-24-11; 8:45 am]

BILLING CODE 4910-60-M